INTERNATIONAL TRADE COMMISSION

[Investigation No. 337-TA-1382]

Certain Electronic Computing Devices and Components Thereof; Notice of a Final Determination Finding No Violation of Section 337; Termination of Investigation

AGENCY: U.S. International Trade Commission.

ACTION: Notice.

SUMMARY: Notice is hereby given that the U.S. International Trade Commission (“Commission”) has determined that the respondents have not violated section 337 of the Tariff Act of 1930, as amended, by importing into the United States, selling for importation, or selling within the United States after importation certain electronic computing devices and components thereof by reason of infringement of certain claims of U.S. Patent No. 7,792,066 (“the '066 patent”); U.S. Patent No. 8,687,354 (“the '354 patent”); and U.S. Patent No. 10,952,203 (“the '203 patent”). This investigation is terminated.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation based on a complaint filed on behalf of Lenovo (United States) Inc. of Morrisville, North Carolina (“Lenovo”). 88 FR 88110 (Dec. 20, 2023). The complaint, as amended and supplemented, alleged violations of section 337 of the Tariff Act of 1930, as amended, 19 U.S.C. 1337, in the importation into the United States, the sale for importation, or the sale within the United States after importation of certain electronic computing devices and components thereof by reason of infringement of claims 1, 3, 5, 7, 9, 11, 13, and 15 of U.S. Patent No. 7,760,189 (“the '189 patent”); claims 1-21 of the '066 patent; claims 1-11 of the '354 patent; and claims 1-18 of the '203 patent. Id. The complaint further alleged that a domestic industry exists. Id. The Commission's notice of investigation named as respondents ASUSTeK Computer Inc., of Taipei, Taiwan and ASUS Computer International of Fremont, CA (“ASUS”). Id. at 88111. The Office of Unfair Import Investigations did not participate in the investigation. Id.

The presiding administrative law judge (“ALJ”) held a claim construction hearing on May 16, 2024, and issued a claim construction order on July 15, 2024. Order No. 32 (July 15, 2024).

The following claims were terminated from the investigation at Lenovo's request: all asserted claims of the '189 patent; claims 6, 8-15, and 19-21 of the '066 patent; claims 2, 3, 8 and 10 of the '354 patent; and claims 1-7, 9-16, and 18 of the '203 patent. Order No. 33 (July 16, 2024), unreviewed, Comm'n Notice, EDIS Doc. ID 828374 (Aug. 5, 2024); Order No. 38 (Aug. 8, 2024), unreviewed, Comm'n Notice, EDIS Doc. ID 831494 (Sept. 5, 2024); Order No. 60 (Sept. 12, 2024), unreviewed, Comm'n Notice, EDIS Doc. ID 834090 (Oct. 4, 2024).

The ALJ conducted an evidentiary hearing from September 16, 2024, through September 20, 2024. Lenovo and ASUS filed initial post-hearing briefs on October 4, 2024, and filed post-hearing reply briefs on October 18, 2024.

On February 7, 2025, the ALJ issued the final initial determination (“ID”) on violation of section 337. Lenovo filed a petition for review of that ID, and ASUS filed a contingent petition for review, on February 21, 2025. The parties filed respective replies to each others' petitions on March 3, 2025.

On April 9, 2025, the Commission extended the date by which it must determine whether to review the final ID to May 1, 2025.

On May 1, 2025, the Commission determined to review the ID in its entirety and sought briefing from the parties on certain issues, including remedy, bonding, and the public interest. The parties filed opening and reply submissions in response to that request on May 15, 2025, and May 22, 2025, respectively.

On June 9, 2025, the Commission extended the target date for completion of this investigation to June 20, 2025.

Having considered the record of the investigation, including the final ID, the parties' submissions to the ALJ, the parties' petitions and responses thereto, and the parties' responses to the Commission's notice of review, the Commission has determined to affirm the ID's finding of no violation, make supplemental findings in support of that determination, and take no position on certain subsidiary findings in the ID as detailed in the concurrently issued Commission opinion. Specifically, the Commission has determined that claims 8 and 17 of the '203 patent, claims 1-5, 7, and 16-18 of the '066 patent, and claims 1 and 4-6 of the '354 patent are not infringed and claims 7, 9, and 11 of the '354 patent are invalid. The Commission has determined to take no position on the following issues: whether ASUS demonstrated the knowledge and intent necessary to be liable for inducing infringement of the '203 patent, whether the term “resource block” requires both time and frequency components, whether the asserted claims of the '203 patent are invalid, whether claims 1 and 4-6 of the '354 patent are invalid, and whether the domestic industry requirement is satisfied for the '354 patent. This investigation is terminated.

The Commission vote for this determination took place on June 20, 2025.

The authority for the Commission's determination is contained in section 337 of the Tariff Act of 1930, as amended (19 U.S.C. 1337), and in Part 210 of the Commission's Rules of Practice and Procedure (19 CFR part 210).

By order of the Commission.
Issued: June 20, 2025.
Lisa Barton,
Secretary to the Commission.

[FR Doc. 2025-11661 Filed 6-24-25; 8:45 am]

BILLING CODE 7020-02-P